DEPARTMENT OF TRANSPORTATION

National Highway Traffic Safety Administration

[U.S. DOT Docket Number NHTSA-2003-15702]

Reports, Forms, and Recordkeeping Requirements.

AGENCY: National Highway Traffic Safety Administration (NHTSA), Department of Transportation.

ACTION: Request for public comment on proposed collection of information.

SUMMARY: Before a Federal agency can collect certain information from the public; it must receive approval from the Office of Management and Budget (OMB). Under procedures established by the Paperwork Reduction Act of 1995, before seeking OMB approval, Federal agencies must solicit public comment on proposed collections of information, including extensions and reinstatement of previously approved collections. This document describes one collection of information for which NHTSA intends to seek OMB reinstatement approval.

DATES: Comments must be received on or before October 10, 2003.

ADDRESSES: Comments must refer to the docket notice numbers cited at the beginning of this notice and be submitted to Docket Management, Room PL-401, 400 Seventh Street, SW., Washington, DC 20590. Please identify the proposed collection of information for which a comment is provided, by referencing its OMB Clearance Number. It is requested, but not required, that 2 copies of the comment be provided. The Docket Section is open on weekdays from 10 a.m. to 5 p.m.

FOR FURTHER INFORMATION CONTACT: Complete copies of each request for collection of information may be obtained at no charge from Mr. Kevin Ball, NHTSA, 400 Seventh Street, SW., Room 5110, NPO-400, Washington, DC 20590. Mr. Ball's telephone number is (202) 366-5649. His fax number is (202) 493-2833. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

Title: Air Bag Deactivation.

OMB Control Number: 2127-0588.

Affected Public: Private individuals, fleet owners and lessees, motor vehicle dealers, repair business, airbag switch installers.

Abstract: If a private individual or lessee wants to install an air bag on-off switch to turn-off either or both frontal air bags, they must complete Form OMB 2127-0588 to certify certain statements regarding use of the switch. The airbag switch installer must then submit the completed forms to NHTSA within seven days. The information obtained from completed forms requesting airbag deactivation will assist NHTSA in monitoring the number of requests, the reasons for such request and the motor vehicles affected. They will also aid the agency in monitoring whether the airbag switch installer completed the work. The completed forms will enable the agency to determine whether the airbag switch installer are complying with the terms of the exemption, which include a requirement that airbag switch installers accept only fully completed forms. Finally, submission of the completed forms to the agency will promote compliance and accuracy in the completion of the forms by vehicle owners. The air bag On-Off switches are installed only in motor vehicles in which the risk of harm needs to be minimized on a case-by-case basis.

Estimated Annual Burden: 7,500 hours.

Estimated Number of Respondents: 15,000.

Susan White,
Chief Information Officer.

[FR Doc. 03-20322 Filed 8-8-03; 8:45 am]

BILLING CODE 4910-59-M